FARM CREDIT ADMINISTRATION

Sunshine Act Meetings

AGENCY: Farm Credit Administration Board, Farm Credit Administration.

ACTION: Notice, regular meeting.

SUMMARY: Notice of the forthcoming regular meeting of the Farm Credit Administration Board is hereby given, pursuant to the Government in the Sunshine Act (5 U.S.C. 552b(e)(1)).

DATES: This regular meeting of the Board will be held on December 9, 2021, from 9:00 a.m. EST until such time as the Board may conclude its business.

ADDRESSES: Because of the COVID-19 pandemic, we will conduct the meeting virtually. To observe the open portion of the virtual meeting, go to FCA.gov, select “Newsroom,” then “Events.” There you will find a description of the meeting and a link to “Instructions for board meeting visitors.” See SUPPLEMENTARY INFORMATION for further information about attendance requests.

FOR FURTHER INFORMATION CONTACT: Ashley Waldron, Secretary to the Farm Credit Administration Board, at (703) 883-4009. TTY is (703) 883-4056.

SUPPLEMENTARY INFORMATION: Parts of this meeting of the Board will be open to the public, and parts will be closed. If you wish to observe the open portion of this virtual meeting, at least 24 hours before the meeting, go to FCA.gov, select “Newsroom,” then “Events.” There you will find a description of the meeting and a link to “Instructions for board meeting visitors.” If you need assistance for accessibility reasons or if you have any questions, contact Ashley Waldron, Secretary to the Farm Credit Administration Board, at (703) 883-4009. The matters to be considered at the meeting are as follows:

Open Session

Approval of Minutes

1. November 18, 2021

Reports

2. Quarterly Report on Economic Conditions and FCS Condition and Performance

3. Semiannual Report on Office of Examination Operations

Closed Session

• Office of Examination Quarterly Report on Supervisory and Oversight Activities ¹

¹ Closed session is exempt pursuant to 5 U.S.C. Section 552b(c)(8) and (9).

Dated: December 1, 2021.
Ashley Waldron,
Secretary, Farm Credit Administration Board.

[FR Doc. 2021-26377 Filed 12-2-21; 11:15 am]

BILLING CODE 6705-01-P